DEPARTMENT OF ENERGY

Federal Energy Regulatory Commission

Sunshine Act Meeting, Notice

May 24, 2000.

The Following Notice of Meeting is published pursuant to section 3(A) of the Government in the Sunshine Act (Pub. L. No. 94-409), 5 U.S.C. 552B:

AGENCY HOLDING MEETING : Federal Energy Regulatory Commission.

DATE AND TIME : May 31, 2000, 10:00 A.M.

PLACE : Room 2C, 888 First Street, N.E., Washington, D.C. 20426 .

STATUS : Open.

MATTERS TO BE CONSIDERED: Agenda—Note—Items listed on the Agenda may be deleted without further notice.

CONTACT PERSON FOR MORE INFORMATION: David P. Boergers, Secretary, Telephone (202) 208-0400 for a recording listing items stricken from or added to the meeting, call (202) 208-1627.

This is a list of matters to be considered by the commission. It does not include a listing of all papers relevant to the items on the agenda; however, all public documents may be examined in the Reference and Information Center.

Consent Agenda—Hydro, 742nd—Meeting May 31, 2000, Regular Meeting (10:00 a.m.)

CAH-1.

Docket# P-4282, 004, Mountain Water Resources

Other's P-4312, 004, Watersong Resources

CAH-2.

Docket# P-2984, 033, S.D. Warren Company

CAH-3.

Docket# P-2389, 036, State of Maine

Consent Agenda—Electric

CAE-1.

Docket# ER00-1721, 000, Virginia Electric and Power Company

Other's ER00-1737, 000, Virginia Electric and Power Company

CAE-2.

Docket# ER00-2065, 000, Boston Edison Company

CAE-3.

Docket# ER00-2015, 000, Nevada Power Company

Other's ER00-2018, 000, Sierra Pacific Power Company

CAE-4.

Docket# ER00-1874, 000, New England Power Pool

Other's ER00-1874, 001, New England Power Pool

CAE-5.

Docket# ER00-2019, 000, California Independent System Operator Corporation

CAE-6.

Docke# ER00-2077, 000, North American Electric Reliability Council

CAE-7.

Docket# ER00-2132, 000, Entergy Services, Inc.

CAE-8.

Docket# ER00-2152, 000, Northern Indiana Public Service Company

CAE-9.

Docket# ER00-2136, 000, Consumers Energy Company

CAE-10.

Docket# ER00-2079, 000, PJM Interconnection L.L.C.

Other's ER00-2079, 001, PJM Interconnection L.L.C.

CAE-11.

Docket# ER00-2198, 000, ISO New England Inc.

CAE-12.

Docket# ER00-2158, 000, Wisconsin Public Service Corporation

CAE-13.

Docket# ER00-2203, 000, New England Power Pool

CAE-14.

Docket# ER00-2234, 000, East Central Area Reliability Council

CAE-15.

Docket# ER00-2424, 000, New England Power Pool

CAE-16.

Docket# ER00-2205, 000, California Independent System Operator Corporation

Other#S ER00-1896, 001, Southern California Edison Company; ER00-2206, 000, California Independent System Operator Corporation

CAE-17. Omitted

CAE-18.

Docket# ER00-2416, 000, Entergy Services, Inc.

CAE-19. Omitted

CAE-20. Omitted

CAE-21.

Docket# EC98-40, 003, American Electric Power Company and Central and South West Corporation

Other# EC98-40, 004, American Electric Power Company and Central and South West Corporation; ER98-2770, 003, American Electric Power Company and Central and South West Corporation; ER98-2770, 004, American Electric Power Company and Central and South West Corporation; ER98-2786, 004, American Electric Power Company and Central and South West Corporation; ER98-2786, 005, American Electric Power Company and Central and South West Corporation

CAE-22.

Docket# ER96-3146, 002, West Penn Power Company

CAE-23.

Docket# ER99-3333, 003, TXU Energy Trading Company

Other#S EL00-69, 000, TXU Energy Trading Company; ER00-2178, 000, TXU Energy Trading Company

CAE-24.

Docket# ER99-1659, 003, Central Power and Light Company, West Texas Utilities Company, Public Service Company of Oklahoma and Southwestern Public Service Company of Oklahoma

Other#S ER99-1659, 004, Central Power and Light Company, West Texas Utilities Company, Public Service Company of Oklahoma and Southwestern Public Service Company of Oklahoma; ER99-1660, 003, Central Power and Light Company, West Texas Utilities Company, Public Service Company of Oklahoma and Southwestern Public Service Company of Oklahoma; ER99-1660, 004, Central Power and Light Company, West Texas Utilities Company, Public Service Company of Oklahoma and Southwestern Public Service Company of Oklahoma

CAE-25.

Docket# ER98-2550, 000, El Segundo Power, LLC

Other#S ER98-2550, 001, El Segundo Power, LLC

CAE-26. Omitted

CAE-27.

Docket# EC00-49, 000, Consolidated Edison, Inc. and Northeast Utilities

CAE-28.

Docket# EL98-46, 003, Laguna Irrigation District

Other#S ER99-3145, 001, Pacific Gas and Electric Company

CAE-29. Omitted

CAE-30.

Docket# EL00-62, 000, ISO New England Inc.

Other#S EL00-59, 000, Central Maine Power Company, Northeast Utilities Service Company, United Illuminating Company, Unitil Power Corporation, Fitchburg Gas and Electric Light Company and Vermont Electric Power Company v. New England Power Pool and ISO New England, Inc.; ER00-2005, 000, Central Maine Power Company, Northeast Utilities Service Company, United Illuminating Company, Unitil Power Corporation, Fitchburg Gas and Electric Light Company and Vermont Electric Power Company v. New England Power Pool and ISO New England, Inc.; ER00-2016, 000, New England Power Pool; ER00-2052, 000, ISO New England, Inc.

CAE-31.

Docket# EG00-39, 000, PPL Bruner Island, LLC

Other#S EG00-40, 000, PPL Holtwood, LLC; EG00-41, 000, PPL Martins Creek, LLC; EG00-43, 000, PPL Susquehanna, LLC; EG00-44, 000, PPL Montour, LLC

CAE-32.

Docket# EL97-54, 000, San Diego Gas & Electric Company v. Public Service Company of New Mexico

Other#S EL99-21, 000, San Diego Gas & Electric Company v. Public Service Company of New Mexico; EL00-56, 000, San Diego Gas & Electric Company v. Public Service Company of New Mexico

CAE-33.

Docket# EL00-49, 000, NRG Power Marketing, Inc. v. New York Independent System Operator, Inc.

CAE-34.

Docket# EL97-54, 004, San Diego Gas & Electric Company v. Public Service Company of New Mexico

Other#S EL99-21, 001, San Diego Gas & Electric Company v. Public Service Company of New Mexico

Consent Agenda—Gas and Oil

CAG-1.

Docket# RP00-246, 000, Wyoming Interstate Company, Ltd.

CAG-2.

Docket# RP00-260, 000, Texas Gas Transmission Corporation

CAG-3.

Docket# RP00-267, 000, ANR Pipeline Company

CAG-4.

Docket# RP00-262, 000, Florida Gas Transmission Company

CAG-5.

Docket# RP00-247, 000, Colorado Interstate Gas Company

CAG-6.

Docket# RP00-261, 000, Columbia Gulf Transmission Company

CAG-7.

Docket# RP00-255, 000, Petal Gas Storage, L.L.C.

CAG-8.

Docket# RP00-264, 000, Northern Natural Gas Company

CAG-9. Omitted

CAG-10.

Docket# RP00-83, 000, Texas Gas Transmission Corporation

Other#S RP00-83, 001, Texas Gas Transmission Corporation; RP00-83, 002, Texas Gas Transmission Corporation; RP00-83, 003, Texas Gas Transmission Corporation;

CAG-11.

Docket# RP00-265, 000, Northern Natural Gas Company

CAG-12.

Docket# RP00-266, 000, Transcolorado Gas Transmission Company

CAG-13.

Docket# TM00-1-25, 002, Mississippi River Transmission Corporation

CAG-14. Omitted

CAG-15.

Docket# RP00-257, 000, Ozark Gas Transmission, L.L.C.

CAG-16. Omitted

CAG-17. Omitted

CAG-18.

Docket# RP99-496, 000, Southern Natural Gas Company

Other#S CP90-2155, 000, Southern Natural Gas Company; RP99-496, 001, Southern Natural Gas Company; RP99-496, 004, Southern Natural Gas Company; CP00-117, 000, Southern Natural Gas Company; CP00-117, 001, Southern Natural Gas Company; CP00-170, 000, Southern Natural Gas Company

CAG-19.

Docket# RP98-40 025 Panhandle Eastern Pipe Line Company

CAG-20.

Docket# MG00-5, 001, Northern Border Pipeline Company

CAG-21.

Docket# MG00-1, 001, Clear Creek Storage Company, L.L.C.

CAG-22.

Docket# CP00-127, 000, Transcontinental Gas Pipe Line Corporation

CAG-23. Omitted

CAG-24.

Docket# CP98-143, 000, Great Lakes Gas Transmission Limited Partnership

CAG-25.

Docket# CP99-539, 001, Earle and Julie Smith V. Portland Natural Gas Transmission System

CAG-26.

Docket# IS00-208, 000, Equilon Pipeline Company, LLC

CAG-27.

Docket# CP99-576, 001, Williams Gas Pipelines Central, Inc.

Hydro Agenda

H-1.

Reserved

Electric Agenda

E-1.

Docket# ER00-1, 000, Transenergie U.S. Ltd. Order on Transmission Service.

Oil and Gas Agenda

I. Pipeline Rate Matters

PR-1.

Reserved

II. Pipeline Certificate Matters

PC-1.

Reserved

David P. Boergers,
Secretary.

[FR Doc. 00-13525 Filed 5-25-00; 1:07 pm]

BILLING CODE 6717-01-P